DEPARTMENT OF DEFENSE

GENERAL SERVICES ADMINISTRATION

NATIONAL AERONAUTICS AND SPACE ADMINISTRATION

48 CFR Chapter 1

Federal Acquisition Regulation; Small Entity Compliance Guide

AGENCIES: Department of Defense (DoD), General Services Administration (GSA), and National Aeronautics and Space Administration (NASA).

ACTION: Small Entity Compliance Guide.

SUMMARY: This document is issued under the joint authority of the Secretary of Defense, the Administrator of General Services and the Administrator for the National Aeronautics and Space Administration. This Small Entity Compliance Guide has been prepared in accordance with Section 212 of the Small Business Regulatory Enforcement Fairness Act of 1996 (Public Law 104-121). It consists of a summary of the rule appearing in Federal Acquisition Circular (FAC) 97-21 which amends the Federal Acquisition Regulation (FAR). Interested parties may obtain further information regarding this rule by referring to FAC 97-21 which precedes this document. This document is also available via the Internet at http://www.arnet.gov/far.

FOR FURTHER INFORMATION CONTACT: Laurie Duarte, FAR Secretariat, (202) 501-4225. For clarification of content, contact Ralph De Stefano, Procurement Analyst, General Services Administration, at (202) 501-1758.

Contractor Responsibility, Labor Relations Costs, and Costs Relating to Legal and Other Proceedings (FAC 97-21, FAR Case 1999-010)

This final rule amends—

• Part 9 to clarify that a satisfactory record of compliance with the law indicates that the prospective contractor possesses basic honesty and that the Government can trust or rely on the contractor to perform the contract in a timely manner. In making a determination of responsibility based upon integrity and business ethics, contracting officers must consider all relevant credible information. However, contracting officers should give the greatest weight to violations of laws that have been adjudicated within the last three years preceding the offer.

• FAR Parts 14 and 15 to provide notice to prospective contractors as quickly as possible when a nonresponsibility determination is made;

• FAR Part 31, to make unallowable certain costs related labor activities, and other legal proceedings unallowable; and

• FAR Part 52, to add a requirement for offerors to certify to violations of certain laws.

Dated: December 15, 2000.
Al Matera,
Acting Director, Federal Acquisition Policy Division.

[FR Doc. 00-32430 Filed 12-19-00; 8:45 am]

BILLING CODE 6820-EP-P